FEDERAL COMMUNICATIONS COMMISSION

Sunshine Act Meeting; Open Commission Meeting; Thursday, November 7, 2002

October 31, 2002.

The Federal Communications Commission will hold an Open Meeting on the subjects listed below on Thursday, November 7, 2002, which is scheduled to commence at 9:30 a.m. in Room TW-C305, at 445 12th Street, SW., Washington, DC.

Item, Bureau, and Subject

1—International: The International Bureau will report on the outcome of the International Telecommunication Union Plenipotentiary Conference.

2—Wireless Telecommunications:

Title: Amendment of the Commission's Rules Regarding Dedicated Short-Range Communication Services in the 5.850-5.925 GHz Band (WT Docket No. 01-90); Amendment of Parts 2 and 90 of the Commission's Rules to Allocate the 5.850-5.925 GHz Band to the Mobile Service for Dedicated Short Range Communications of Intelligent Transportation Services.

Summary: The Commission will consider a Notice of Proposed Rulemaking and Order concerning allocation and service rules for the Dedicated Short-Range Communication Services in the 5.850-5.925 GHz Band.

3—Media:

Title: Review of the Commission's Broadcast and Cable Equal Employment Opportunity Rules and Policies (MM Docket No. 98-204).

Summary: The Commission will consider a Second Report and Order concerning new broadcast and MVPD equal employment opportunity rules and policies.

4—Office of Engineering and Technology:

Title: Amendment of Part 2 of the A Commission's Rules to Allocate Spectrum Below 3 GHz for Mobile and Fixed Services to Support the Introduction of New Advanced Wireless Services, including Third Generation Wireless Systems (ET Docket No. 00-258).

Summary: The Commission will consider a Second Report and Order that would allocate spectrum in the 1.7 and 2.1 GHz bands that can be used to provide advanced wireless services (AWS), such as those services commonly identified as “3G” or “IMT-2000.”

5—Wireless Telecommunications:

Title: Service Rules for Advanced Wireless Services in the 1.7 GHz and 2.1 GHz Bands.

Summary: The Commission will consider a Notice of Proposed Rulemaking concerning service rules for Advanced Wireless Services in the 1.7 GHz and 2.1 GHz bands.

6—Office of Engineering Technology: The Spectrum Policy Task Force will report on its findings and recommendations relating to the Commission's spectrum policy.

Additional information concerning this meeting may be obtained from Maureen Peratino or David Fiske, Office of Media Relations, telephone number (202) 418-0500; TTY 1-888-835-5322.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

This meeting can be viewed over George Mason University's Capitol Connection. The Capitol Connection also will carry the meeting live via the Internet. For information on these services call (703) 993-3100. Audio/Video coverage of the meeting will be broadcast live over the Internet from the FCC's Audio/Video Events web page at http://www.fcc.gov/realaudio. Audio and video tapes of this meeting can be purchased from CACI Productions, 341 Victory Drive, Herndon, VA 20170, telephone number (703) 834-1470, Ext. 19; fax number (703) 834-0111.

Federal Communications Commission.
Marlene H. Dortch,
Secretary.

[FR Doc. 02-28324 Filed 11-4-02; 11:44 am]

BILLING CODE 6712-01-P